DEPARTMENT OF HEALTH AND HUMAN SERVICES

Substance Abuse and Mental Health Services Administration

Notice of Request for Applications for Recovery Community Services Program (RCSP III) (TI 04-008)

AGENCY: Substance Abuse and Mental Health Services Administration, HHS.

ACTION: Notice of request for applications for Recovery Community Services Program (RCSP III) (TI 04-008).

Authority: Section 509 of the Public Health Service Act, as amended and subject to the availability of funds.

SUMMARY: The United States Department of Health and Human Services (HHS), Substance Abuse and Mental Health Services Administration's (SAMHSA) Center for Substance Abuse Treatment (CSAT) is accepting applications for fiscal year (FY) 2004 grants to deliver and evaluate peer-to-peer recovery support services that help prevent relapse and promote sustained recovery from alcohol and drug use disorders, as authorized under section 509 of the Public Health Service Act. Successful applicants will provide peer-to-peer recovery support services that are responsive to community needs and strengths, and will carry out a quantitative and qualitative evaluation of the services.

This Recovery Community Services Program (RCSP III) complements SAMHSA's Access to Recovery (ATR) program, which provides grant funding to States, Territories and Tribal Organizations to implement voucher programs for substance abuse clinical treatment and recovery support services. ATR is part of a major Presidential Initiative to provide client choice among substance abuse clinical treatment and recovery support service providers, expand access to a comprehensive array of clinical treatment and recovery support options (including faith-based programmatic options), and increase substance abuse treatment capacity. Although not required, applicants for RCSP III are encouraged to coordinate with their State/Territorial/Tribal governments so that RCSP applications will complement the State/Territorial/Tribal governments' applications for ATR.

DATES: Applications are due on May 18, 2004.

FOR FURTHER INFORMATION CONTACT: For questions on program issues, contact: Catherine D. Nugent, M.S., SAMHSA/CSAT, 5600 Fishers Lane, Rockwall II, Room 7-213, Rockville, MD 20857, Phone: (301) 443-2662, Fax: (301) 443-8345, E-mail: cnugent@samhsa.gov.

For questions on grants management issues, contact: Kathleen Sample, Division of Grants Management, Substance Abuse and Mental Health Services Administration/OPS, 5600 Fishers Lane, Rockwall II 6th Floor, Rockville, MD 20857, Phone: (301) 443-9667, Fax: (301) 443-6468, E-mail: ksample@samhsa.gov.

SUPPLEMENTARY INFORMATION:

Center for Substance Abuse Treatment; Projects To Deliver and Evaluate Peer-to-Peer Recovery Support Services

Short Title: Recovery Community Services Program—RCSP III (Initial Announcement)

Request for Applications (RFA) No. TI 04-008

Catalogue of Federal Domestic Assistance (CFDA) No.: 93.243.

Key Dates
Application Deadline | May 18, 2004
Intergovernmental Review (E.O. 12372) | Letters from State Single Point of Contact (SPOC) are due no later than 60 days after application deadline.
Public Health System Impact Statement (PHSIS)/Single State Agency Coordination | Applicants must send the PHSIS to appropriate State and local health agencies by application deadline. Comments from Single State Agency are due no later than 60 days after application deadline.

Table of Contents

I. Funding Opportunity Description

1. Introduction

2. Expectations

II. Award Information

1. Award Amount

2. Funding Mechanism

III. Eligibility Information

1. Eligible Applicants

2. Cost-Sharing

3. Other

IV. Application and Submission Information

1. Address to Request Application Package

2. Content and Form of Application Submission

3. Submission Dates and Times

4. Intergovernmental Review (E.O. 12372) Requirements

5. Funding Limitations/Restrictions

6. Other Submission Requirements

V. Application Review Information

1. Evaluation Criteria

2. Review and Selection Process

VI. Award Administration Information

1. Award Notices

2. Administrative and National Policy Requirements

3. Reporting Requirements

VII. Agency Contacts

Appendix A: References Cited in RFA

Appendix B: Examples of Peer-to-Peer Recovery Support Services

Appendix C: Checklist for Formatting Requirements and Screen Out Criteria for SAMHSA Grant Applications

Appendix D: RCSP Core Values

Appendix E: Sample Consent to Participate in Peer Recovery Support Services

Appendix F: Analysis of Examples of Risks/Protections for Peer Recovery Support Services

Appendix G: Examples of Potential Participant Protection Challenges in Peer Services and Strategies to Address

Appendix H: Glossary

I. Funding Opportunity Description

1. Introduction

As authorized under section 509 of the Public Health Service Act, the Substance Abuse and Mental Health Services Administration (SAMHSA), Center for Substance Abuse Treatment (CSAT) announces the availability of FY 2004 funds for grants to deliver and evaluate peer-to-peer recovery support services that help prevent relapse and promote sustained recovery from alcohol and drug use disorders. Successful applicants will provide peer-to-peer recovery support services that are responsive to community needs and strengths, and will carry out a quantitative and qualitative evaluation of the services.

This Recovery Community Services Program (RCSP III) complements SAMHSA's Access to Recovery (ATR) program. ATR provides grant funding to States, Territories and Tribal Organizations to implement voucher programs for substance abuse clinical treatment and recovery support services pursuant to sections 501(d)(5) and 509 of the Public Health Service Act (42 U.S.C. 290aa(d)(5) and 290bb-2). ATR is part of a major Presidential Initiative to provide client choice among substance abuse clinical treatment and recovery support service providers, expand access to a comprehensive array of clinical treatment and recovery support options (including faith-based programmatic options), and increase substance abuse treatment capacity. Although not required, applicants for RCSP III are encouraged to coordinate with their State/Territorial/Tribal governments so that RCSP applications will complement the State/Territorial/Tribal governments' applications for ATR.

2. Expectations

2.1 Target/Involved Population

The primary target for this program is people with a history of alcohol and/or drug problems who are in or seeking recovery, along with their family members and significant others who will be both the providers and recipients of recovery support services. For purposes of this document, the term peer means people who share the experience of addiction and recovery, either directly or as family members/significant others.

2.2 Eligible Services

Peer-to-peer recovery support services are designed and delivered by peers rather than by professionals. Professionals will be good allies, and successful peer initiatives will network and build strong and mutually supportive relationships with formal systems and professionals in their communities. However, peer services will be designed and delivered primarily by individuals and families in recovery to meet their recovery support needs, as they define them. Therefore, although supportive of formal treatment, peer recovery support services are not treatment in the commonly understood clinical sense of the term.

At the same time, peer recovery support services are expected to extend and enhance the treatment continuum in at least two ways. These services will help prevent relapse and promote long-term recovery, thereby reducing the strain on the over-burdened treatment system. Moreover, when individuals do experience relapse, recovery support services can help minimize the negative effects through early intervention and, where appropriate, timely referral to treatment.

Continued sobriety or abstinence (which includes abstinence attained with medication, such as methadone or buprenorphine) is an important part of sustained recovery from addiction. However, recovery is a larger construct than sobriety or abstinence that embraces a full reengagement with the community based on resilience, health, and hope. Therefore, peer recovery support services are expected to focus less on the pathology of substance use disorders and more on maximizing the opportunities to create a lifetime of recovery and wellness for self, family, and community. Appendix B provides a listing of examples of peer-to-peer recovery support services.

This grant program is not designed to support the provision of professional treatment services, including aftercare, by any type of provider. Peer support services cannot replace acute treatment, and it would be unethical to utilize peer leaders from the recovery community to provide services, such as treatment, counseling, or psychotherapy, that should be provided by a professional. Peer leaders providing recovery support services under this program will offer a limited range of supportive services that differ from and complement those provided by alcohol and drug counselors, psychotherapists, or other professionals.

In addition, the program is not designed to support treatment or other professionals in the provision of recovery support services. Individuals who self-identify as both a professional and a person in recovery may provide recovery support services in their capacity as a peer, but may not provide professional services under this grant.

RCSP III is intended to support peer leaders from the recovery community in providing recovery support services to people in recovery and their family members.

2.3 Mix of Services

Applicants must demonstrate that the array of services offered is responsive to community need and complements existing community resources. The goal is to add to the existing resources in the community with peer-to-peer recovery support services that can meet the stage-appropriate needs of people who are seeking to initiate recovery or working to sustain it. Successful peer-to-peer recovery support services will include ongoing assessment of participants' support needs and a menu of supportive services to meet the needs at various stages in recovery.

Because peer recovery support services operationalize the construct of social support, it may be helpful for applicants to consider four types of social support cited in the literature (Cobb, 1976; Salser, 1998), and to design a mix of services that includes activities in the following categories:

• Emotional support refers to demonstrations of empathy, love, caring, and concern. Emotional support bolsters one's self-esteem and confidence. An emotional supporter serves as a confidante, offering acceptance, care, and understanding. Peer mentoring, coaching, and support groups are examples of recovery support services that provide emotional support.

• Informational support involves assistance with knowledge, information, and skills. This type of support can include providing information on where to go for resources or might involve teaching a specific skill. Examples of recovery support services that provide informational support include life skills training (e.g., parenting, stress management, conflict resolution), job skills training, citizen restoration, educational assistance, and health and wellness information (e.g., smoking cessation, nutrition, relaxation training).

• Instrumental support refers to concrete assistance in helping others to do things or get things done, especially stressful or unpleasant tasks. Examples in this category might include providing transportation to get to support groups, child-care, clothing closets, and concrete assistance with tasks such as filling out applications or helping people obtain entitlements.

• Companionship support offers the opportunity to experience connections with people in whose company one enjoys being, especially for recreational activities. It is important for people in recovery to have opportunities for positive leisure activities in an alcohol- and drug-free environment. Especially in early recovery when there may be little that is reinforcing about abstaining from alcohol or drugs, finding some pleasure with others may help prevent relapse.

Based on assessment of the targeted recovery community, the applicant should determine which services, and in which proportion, are expected to be optimally responsive to community needs.

Note: Although alcohol- and drug-free social and recreational activities are acceptable services under this grant, applicants may not limit their services to companion support, but, rather, must include a broad range of supports from the various social support categories.

2.4 Core Values

Applicants must identify the core values that will guide their approach, and explain how these values will be operationalized in the design and delivery of peer-to-peer recovery support services. Applicants must discuss each of the following values, which are further explained in Appendix D: (a) Keeping recovery first; (b) participatory process; (c) authentic recovery community voice; (d) leadership development, and (e) cultural diversity and inclusion. Applicants may identify and discuss other values important to the targeted recovery community, but must discuss these five.

2.5 Types of Peer Service Organizations

Applications may be submitted by either independent recovery community organizations (RCOs) or facilitating organizations.

RCOs are organizations comprised of and led primarily by people in recovery and their family members and other allies. Generally, these are independent organizations with nonprofit status.

Facilitating organizations may not necessarily be comprised primarily of people in recovery; however, people in recovery and their family members must be involved in all aspects of application development, program design, and implementation. Examples of facilitating organizations include: treatment and mental health agencies, community service centers, consortia of community-based organizations not led by recovery community members, universities, and units of government.

The facilitating organization's role in the grant will be to:

• Enable the formation of an independent RCO that will provide peer-to-peer recovery support services; or

• Develop some other viable organizational structure that enables recovery community members to provide peer-to-peer recovery support services in an autonomous and self-directed manner within the facilitating organization.

Whether through formation of an RCO or another organizational structure, the facilitating organization will build the capacity of the recovery community to design, deliver, and evaluate peer support services.

Treatment providers, units of government, universities, and all other professionally-based organizations may apply only as facilitating organizations.

Members of the recovery community must have a meaningful leadership role in any project, whether carried out by an RCO or facilitating organization.

2.6 Infrastructure Development (maximum 15% of total grant award)

Organizations funded under RCSP III must be sufficiently established to begin implementing peer recovery support services within six months of award. However, SAMHSA recognizes that infrastructure development may be needed to support organizational start-up and development, as well as service design, in some instances. Although the majority of grant funds should be used for direct services, you may use up to 15% of the total RCSP III grant award for the following types of infrastructure development, if necessary, to support the design, development, and initiation of the peer services you will offer:

• Activities related to organizational and project start-up, such as staff and board development, as well as ongoing organizational functions, such as risk management and accounting services.

• Community assessment and development. (Although you must demonstrate knowledge of community needs and resources in your application, if you are funded, you may use a limited amount of grant funds to conduct additional assessments and refine your service plan, and to further mobilize the targeted recovery community to participate in the program.)

• Building partnerships to ensure the success of the project and entering into service delivery or other agreements.

It is expected that peer leadership development (e.g., recruiting, orienting, training, and supervising peers to provide services) will be an ongoing activity. Peer leadership development is not considered infrastructure development.

2.7 Grantee Meetings

You must plan to send at least two to three key staff members (including the Project Director) to a yearly technical assistance meeting, and you must plan to send approximately 5-8 representatives of your project, including key staff and peer leaders from your targeted recovery community, to a yearly RCSP conference. You must include funding for this travel in your budget. At these meetings, grantees will present the results of their projects and Federal staff will provide technical assistance. Each meeting will be 3 days. These meetings will usually be held in the Washington, DC., area, and attendance is mandatory.

2.8 Data and Performance Measurement

The Government Performance and Results Act of 1993 (Pub. L. 103-62, or “GPRA”) requires all Federal agencies to set program performance targets and report annually on the degree to which the previous year's targets were met.

Agencies are expected to evaluate their programs regularly and to use results of these evaluations to explain their successes and failures and justify their request for funding.

To meet GPRA requirements, SAMHSA must collect performance data (i.e., “GPRA data”) from grantees. Grantees are required to report these GPRA data to SAMHSA on a timely basis. Specifically, grantees will be required to provide data on a set of required measures explained below.

The purpose of the RCSP III GPRA data is to provide information that helps to establish the value of peer-to-peer recovery support services in preventing relapse and promoting sustained recovery. To accomplish this, you will be required to provide data on a set of required performance indicators. (Note to previous RCSP applicants: The GPRA requirements have changed; RCSP III is designed to provide performance data that was not required in previous RCSP programs.)

For adults receiving services, GPRA indicators include changes in a positive direction or stability over time on each of five measures, showing that adults receiving your services:

• Are currently employed or engaged in productive activities

• Have a permanent place to live in the community

• Have reduced their involvement with the criminal justice system

• Have not used illegal drugs or misused alcohol or prescription drugs during the past month

• Have experienced reduced health, behavior, or social consequences related to abuse of alcohol or illegal drugs or misuse of prescription drugs.

For youth/adolescents under age 18 receiving services, GPRA indicators include changes in a positive direction or stability over time on five measures, showing that youth/adolescents receiving your services:

• Are attending school

• Are residing in a stable living environment

• Have no involvement in the juvenile justice system

• Have not used alcohol or illegal drugs or misused prescription drugs during the previous month

• Have experienced reduced health, behavior, or social consequences related to use of alcohol, abuse of illegal drugs, or misuse of prescription drugs.

GPRA data are to be collected at baseline (i.e., the participant's entry into the RCSP grantee's service program), 6 months after the baseline, and 12 months after the baseline. Projects serving adolescents may also want to collect 3 month post-baseline data to capture the nuances of change particular to this population. It is expected that GPRA data will be entered into the GPRA Web system within 7 business days of the forms being completed. In addition, it is expected that 80% of the participants will be followed up.

You may allocate up to 20% of your project budget to collect and report GPRA data and for your process evaluation (see below).

The data collection tool, Targeted Capacity Expansion Client Level GPRA Tool, to be used for reporting the required data will be provided in the application kits distributed by the National Clearinghouse for Alcohol and Drug Information (NCADI) and can be found at http://www.csat-gpra.samhsa.gov/. (Click on “Data Collection Tools/Instructions.” Then click on “Targeted Capacity Expansion Program,” then “GPRA Tool.”)

In your application, you must demonstrate your ability to collect and report on these measures. (You should not, however, include GPRA data collection forms.) If you do not have the capability to collect and report on the GPRA measures, you will need to partner with an individual or organization that does.

GPRA data are to be collected and then entered into CSAT's GPRA Data Entry and Reporting System (www.csat-gpra.samhsa.gov). Training and technical assistance on data collecting, tracking, and follow-up, as well as data entry, will be provided by CSAT.

The terms and conditions of the grant award also will specify the data to be submitted and the schedule for submission. Grantees will be required to adhere to these terms and conditions of award.

Applicants should be aware that SAMHSA is working to develop a set of required core performance measures for four types of grants (i.e., Services Grants, Infrastructure Grants, Best Practices Planning and Implementation Grants, and Service-to-Science Grants). As this effort proceeds, some of the data collection and reporting requirements included in SAMHSA's RFAs may change. All grantees will be expected to comply with any changes in data collection requirements that occur during the grantee's project period.

2.9 Evaluation

Grantees must evaluate their projects, and you are required to describe your evaluation plans in your application. The evaluation should be designed to provide regular feedback to the project to improve services. The evaluation must include the required GPRA performance measures (outcome evaluation) described above, as well as process components (process evaluation—described below), which measure change relating to project goals and objectives over time compared to baseline information. Control or comparison groups are not required.

Process components should address issues such as:

• How closely did implementation match the plan?

• What types of deviation from the plan occurred?

• What led to the deviations?

• What effect did the deviations have on the planned intervention and evaluation?

• Who provided (program staff, peer leaders) what services (modality, type, intensity, duration), to whom (individual characteristics), in what context (organization, community), and at what cost (facilities, personnel, dollars)?

You may use no more than 20% of the total grant award for evaluation and data collection, including GPRA.

II. Award Information

1. Award Amount

It is expected that approximately $2.5 million will be available in fiscal year 2004 to fund approximately 7 grants. The average annual award is expected to be about $350,000 in total costs (direct and indirect), and grants will be awarded for a period of up to 4 years. The actual amount available for the awards may vary, depending on unanticipated program requirements and the number and quality of the applications received.

Out of the $2.5 million available, SAMHSA/CSAT plans to set aside approximately $1.4 million to fund up to 4 RCOs (as defined in Section I.2.5, entitled Types of Peer Services Organizations).

Proposed budgets cannot exceed the allowable amount in any year of the proposed project. Annual continuation awards will depend on the availability of funds, grantee progress in meeting project goals and objectives, and timely submission of required data and reports.

2. Funding Mechanism

Awards will be made as grants.

III. Eligibility Information

1. Eligible Applicants

Eligible applicants are domestic public and private nonprofit entities. For example, State, local or tribal governments; public or private universities and colleges; community- and faith-based organizations; and tribal organizations may apply. The statutory authority for this program precludes grants to for-profit organizations.

Consortia comprised of various types of eligible organizations are permitted; however, a single organization representing the consortium must be the applicant, the recipient of any award, and the entity responsible for satisfying the grant requirements.

If you are proposing a consortia, a recovery community organization or people in recovery and their families must have a significant role in the consortium and the project.

All applicants, including single organizations and consortia, must clearly indicate in their project narrative (in Section B, Organizational and Community Readiness and Feasibility) whether they are a Recovery Community Organization (RCO) or Facilitating Organization (FO). If your application fails to declare which type of organization you are, the Peer Review Committee will categorize your organization. Also, if the Peer Review Committee does not agree with the way you have categorized your organization, they may change your designation (e.g., from RCO to FO or vice versa).

Organizations that were funded under Track II of the 2001 SAMHSA/CSAT Recovery Community Support Program (TI-01-003), whose grants will be ending in September 2004, may apply for grants under this Request for Applicants (RFA). All other current RCSP grantees are ineligible for this program.

2. Cost-Sharing

Cost-sharing (see Appendix H) is not required in this program, and applications will not be screened out on the basis of cost-sharing. However, you may include cash or in-kind contributions (see Glossary) in your proposal as evidence of commitment to the proposed project.

3. Other

3.1 Additional Eligibility Requirements

Applicants must comply with the following requirements, or they will be screened out and will not be reviewed: use of the PHS 5161-1 application; application submission requirements in Section IV-3 of this document; and formatting requirements provided in Section IV-2.3 of this document.

IV. Application and Submission Information

To ensure that you have met all submission requirements, a checklist is provided for your use in Appendix C of this document.

1. Address To Request Application Package

You may request a complete application kit by calling the National Clearinghouse for Alcohol and Drug Information (NCADI) at 1-800-729-6686. You also may download the required documents from the SAMHSA Web site at www.samhsa.gov. Click on “grant opportunities.”

Additional materials available on this Web site include:

• A technical assistance manual for potential applicants;

• Standard terms and conditions for SAMHSA grants;

• Guidelines and policies that relate to SAMHSA grants (e.g., guidelines on cultural competence, consumer and family participation, and evaluation); and

• Enhanced instructions for completing the PHS 5161-1 application.

2. Content and Form of Application Submission

2.1 Required Documents

SAMHSA application kits include the following documents:

• PHS 5161-1 (revised July 2000)—Includes the face page, budget forms, assurances, certification, and checklist. Use the PHS 5161-1. Applications that are not submitted on the required application form will be screened out and will not be reviewed.

• Request for Applicants (RFA)—Includes instructions for the grant application. This document is the RFA.

You must use the above documents in completing your application.

2.2 Required Application Components

To ensure equitable treatment of all applications, applications must be complete. In order for your application to be complete, it must include the required ten application components (Face Page, Abstract, Table of Contents, Budget Form, Project Narrative and Supporting Documentation, Appendices, Assurances, Certifications, Disclosure of Lobbying Activities, and Checklist).

• Face Page—Use Standard Form (SF) 424, which is part of the PHS 5161-1. [Note: Beginning October 1, 2003, applicants will need to provide a Dun and Bradstreet (DUNS) number to apply for a grant or cooperative agreement from the Federal Government. SAMHSA applicants will be required to provide their DUNS number on the face page of the application. Obtaining a DUNS number is easy and there is no charge. To obtain a DUNS number, access the Dun and Bradstreet Web site at www.dunandbradstreet.com or call 1-866-705-5711. To expedite the process, let Dun and Bradstreet know that you are a public/private nonprofit organization getting ready to submit a Federal grant application.]

• Abstract—Your total abstract should not be longer than 35 lines. In the first five lines or less of your abstract, write a summary of your project that can be used, if your project is funded, in publications, reporting to Congress, or press releases.

• Table of Contents—Include page numbers for each of the major sections of your application and for each appendix.

• Budget Form—Use SF 424A, which is part of the PHS 5161-1. Fill out Sections B, C, and E of the SF 424A.

• Project Narrative and Supporting Documentation—The Project Narrative describes your project. It consists of Sections A through E. Sections A-E together may not be longer than 30 pages. More detailed instructions for completing each section of the Project Narrative are provided in “Section V—Application Review Information” of this document.

The Supporting Documentation provides additional information necessary for the review of your application. This supporting documentation should be provided immediately following your Project Narrative in Sections F through I. There are no page limits for these sections, except for Section H, the Biographical Sketches/Job Descriptions.

• Section F—Literature Citations. This section must contain complete citations, including titles and all authors, for any literature you cite in your application.

• Section G—Budget Justification, Existing Resources, Other Support. You must provide a narrative justification of the items included in your proposed budget, as well as a description of existing resources and other support you expect to receive for the proposed project. Be sure to show that no more than 15% of the total grant award will be used for infrastructure development and that no more than 20% of the total grant award will be used for data collection and evaluation.

• Section H—Biographical Sketches and Job Descriptions.

—Include a biographical sketch for the Project Director and other key positions. Each sketch should be 2 pages or less. If the person has not been hired, include a letter of commitment from the individual with a current biographical sketch.

—Include job descriptions for key personnel. Job descriptions should be no longer than 1 page each.

—Sample sketches and job descriptions are listed on page 22, Item 6 in the Program Narrative section of the PHS 5161-1.

• Section I—Confidentiality and SAMHSA Participant Protection/Human Subjects. Instructions for completing Section I of your application are provided below in Section IV-2.4 of this document.

• Appendices 1 through 4—Use only the appendices listed below. Do not use more than 30 pages for Appendices 1,3, and 4. There is no page limitation for Appendix 2. Do not use appendices to extend or replace any of the sections of the Project Narrative. Reviewers will not consider them if you do.

• Appendix 1: Letters of commitment/support (from all direct service organizations that have agreed to participate in the proposed project, as well as community stakeholders who support your project).

• Appendix 2: Data Collection Instruments/Interview Protocols (no page limitation)

• Appendix 3: Sample Consent Forms

• Appendix 4: Letter to the SSA

• Assurances—Non-Construction Programs. Use Standard Form 424B found in PHS 5161-1. Applicants are required to complete the Assurance of Compliance with SAMHSA Charitable Choice Statutes and Regulations, Form SMA 170. This form will be posted on SAMHSA's Web site with the RFA and provided in the application kits available at NCADI.

• Certifications—Use the “Certifications” forms found in PHS 5161-1.

• Disclosure of Lobbying Activities—Use Standard Form LLL found in the PHS 5161-1. Federal law prohibits the use of appropriated funds for publicity or propaganda purposes, or for the preparation, distribution, or use of the information designed to support or defeat legislation pending before the Congress or State legislatures. This includes “grass roots” lobbying, which consists of appeals to members of the public suggesting that they contact their elected representatives to indicate their support for or opposition to pending legislation or to urge those representatives to vote in a particular way.

• Checklist—Use the Checklist found in PHS 5161-1. The Checklist ensures that you have obtained the proper signatures, assurances and certifications and is the last page of your application.

2.3 Application Formatting Requirements

Applicants also must comply with the following basic application requirements. Applications that do not comply with these requirements will be screened out and will not be reviewed.

• Information provided must be sufficient for review.

• Text must be legible.

—Type size in the Project Narrative cannot exceed an average of 15 characters per inch, as measured on the physical page. (Type size in charts, tables, graphs, and footnotes will not be considered in determining compliance.)

—Text in the Project Narrative cannot exceed 6 lines per vertical inch.

• Paper must be white paper and 8.5 inches by 11.0 inches in size.

• To ensure equity among applications, the amount of space allowed for the Project Narrative cannot be exceeded.

—Applications would meet this requirement by using all margins (left, right, top, bottom) of at least one inch each, and adhering to the 25-page limit for the Project Narrative.

—Should an application not conform to these margin or page limits, SAMHSA will use the following method to determine compliance: The total area of the Project Narrative (excluding margins, but including charts, tables, graphs and footnotes) cannot exceed 58.5 square inches multiplied by 25. This number represents the full page less margins, multiplied by the total number of allowed pages.

—Space will be measured on the physical page. Space left blank within the Project Narrative (excluding margins) is considered part of the Project Narrative, in determining compliance.

• The 30-page limit for Appendices 1, 3 and 4 cannot be exceeded.

To facilitate review of your application, follow these additional guidelines. Failure to adhere to the following guidelines will not, in itself, result in your application being screened out and returned without review. However, following these guidelines will help reviewers to consider your application.

• Pages should be typed single-spaced with one column per page.

• Pages should not have printing on both sides.

• Please use black ink and number pages consecutively from beginning to end so that information can be located easily during review of the application. The cover page should be page 1, the abstract page should be page 2, and the table of contents page should be page 3. Appendices should be labeled and separated from the Project Narrative and budget section, and the pages should be numbered to continue the sequence.

• Send the original application and two copies to the mailing address in Section IV-6.1 of this document. Please do not use staples, paper clips, and fasteners. Nothing should be attached, stapled, folded, or pasted. Do not use heavy or lightweight paper or any material that cannot be copied using automatic copying machines. Odd-sized and oversized attachments such as posters will not be copied or sent to reviewers. Do not include videotapes, audiotapes, or CD-ROMs.

2.4 SAMHSA Confidentiality and Participant Protection Requirements and Protection of Human Subjects Regulations

You must describe your procedures relating to Confidentiality, Participant Protection and the Protection of Human Subjects Regulations in Section I of your application, using the guidelines provided below. Problems with confidentiality, participant protection, and protection of human subjects identified during peer review of your application may result in the delay of funding.

Confidentiality and Participant Protection: All applicants must address each of the following elements relating to confidentiality and participant protection. You must describe how you will address these requirements.

1. Protect Clients and Staff From Potential Risks

• Identify and describe any foreseeable physical, medical, psychological, social, and legal, risks or potential adverse effects as a result of the project itself or any data collection activity.

• Describe the procedures you will follow to minimize or protect participants against potential risks, including risks to confidentiality.

• Identify plans to provide guidance and assistance in the event there are adverse effects to participants.

• Where appropriate, describe alternative treatments and procedures that may be beneficial to the participants. If you choose not to use these other beneficial treatments, provide the reasons for not using them.

2. Fair Selection of Participants

• Describe the target population(s) for the proposed project. Include age, gender, and racial/ethnic background and note if the population includes homeless youth, foster children, children of substance abusers, pregnant women, or other targeted groups.

• Explain the reasons for including groups of pregnant women, children, people with mental disabilities, people in institutions, prisoners, and individuals who are likely to be particularly vulnerable to HIV/AIDS.

• Explain the reasons for including or excluding participants.

• Explain how you will recruit and select participants. Identify who will select participants.

3. Absence of Coercion

• Explain if participation in the project is voluntary or required. Identify possible reasons why participation is required, for example, court orders requiring people to participate in a program.

• If you plan to compensate participants, state how participants will be awarded incentives (e.g., money, gifts etc.).

• State how volunteer participants will be told that they may receive services intervention even if they do not participate in or complete the data collection component of the project.

4. Data Collection

• Identify from whom you will collect data (e.g., from participants themselves, family members, teachers, others). Describe the data collection procedures and specify the sources for obtaining data (e.g., school records, interviews, psychological assessments, questionnaires, observation, or other sources). Where data are to be collected through observational techniques, questionnaires, interviews, or other direct means, describe the data collection setting.

• Identify what type of specimens (e.g., urine, blood) will be used, if any. State if the material will be used just for evaluation or if other use(s) will be made. Also, if needed, describe how the material will be monitored to ensure the safety of participants.

• Provide in Appendix 2, “Data Collection Instruments/Interview Protocols,” copies of all available data collection instruments and interview protocols that you plan to use.

5. Privacy and Confidentiality

• Explain how you will ensure privacy and confidentiality. Include who will collect data and how it will be collected.

• Describe:

—How you will use data collection instruments.

—Where data will be stored.

—Who will or will not have access to information.

—How the identity of participants will be kept private, for example, through the use of a coding system on data records, limiting access to records, or storing identifiers separately from data.

Note: If applicable, grantees must agree to maintain the confidentiality of alcohol and drug abuse client records according to the provisions of title 42 of the Code of Federal Regulations, part II.

6. Adequate Consent Procedures

• List what information will be given to people who participate in the project. Include the type and purpose of their participation. Identify the data that will be collected, how the data will be used and how you will keep the data private.

• State:

—Whether or not their participation is voluntary.

—Their right to leave the project at any time without problems.

—Possible risks from participation in the project.

—Plans to protect clients from these risks.

• Explain how you will get consent for youth, the elderly, people with limited reading skills, and people who do not use English as their first language.

Note: If the project poses potential physical, medical, psychological, legal, social or other risks, you must obtain written informed consent.

• Indicate if you will obtain informed consent from participants or assent from minors along with consent from their parents or legal guardians. Describe how the consent will be documented. For example: Will you read the consent forms? Will you ask prospective participants questions to be sure they understand the forms? Will you give them copies of what they sign?

• Include, as appropriate, sample consent forms that provide for: (1) Informed consent for participation in service intervention; (2) informed consent for participation in the data collection component of the project; and (3) informed consent for the exchange (releasing or requesting) of confidential information. The sample forms must be included in Appendix 3 of your application, “Sample Consent Forms.”

• If needed, give English translations.

Note: Never imply that the participant waives or appears to waive any legal rights, may not end involvement with the project, or releases your project or its agents from liability for negligence.

• Describe if separate consents will be obtained for different stages or parts of the project. For example, will they be needed for both participant protection in treatment intervention and for the collection and use of data.

• Additionally, if other consents (e.g., consents to release information to others or gather information from others) will be used in your project, provide a description of the consents. Will individuals who do not consent to having individually identifiable data collected for evaluation purposes be allowed to participate in the project?

7. Risk/Benefit Discussion

Discuss why the risks are reasonable compared to expected benefits and importance of the knowledge from the project.

Note: A Sample Consent Form for Participation in Peer Recovery Support Services is in Appendix E. In addition, examples of risks and protections for peer recovery support services are included in Appendix F. Additional participant protection challenges for peer services are included in Appendix G, along with examples of strategies to address the challenges. These appendices are provided to help you consider some of the participant protection issues that may affect your proposed project. They are not to be considered exhaustive; you must consider the specific risks and protections that will be important for your particular project.

Protection of Human Subjects Regulations: Depending on the evaluation design you propose in your application, you may have to comply with the Protection of Human Subjects Regulations (45 CFR part 46).

Applicants must be aware that even if the Protection of Human Subjects Regulations do not apply to all projects funded under a given funding opportunity, the specific evaluation design proposed by the applicant may require compliance with these regulations.

Applicants who projects must comply with the Protection of Human Subjects Regulations must describe the process for obtaining Institutional Review Board (IRB) approval fully in their applications. While IRB approval is not required at the time of grant award, these applicants will be required, as a condition of award, to provide the documentation that an Assurance of Compliance is on file with the Office for Human Research Protections (OHRP) and the IRB approval has been received prior to enrolling any clients in the proposed project.

Additional information about Protection of Human Subjects Regulations can be obtained on the Web at http://ohrp.osophs.dhhs.gov. You may also contact OHRP by e-mail (ohrp@osophs.dhhs.gov) or by phone (301-496-7005).

3. Submission Dates and Times

Applications are due May 18, 2004.

Your application must be received by the application deadline. Applications received after this date must have a proof-of-mailing date from the carrier dated at least 1 week prior to the due date. Private metered postmarks are not acceptable as proof of timely mailing.

You will be notified by postal mail that your application has been received.

Applications not received by the application deadline or not postmarked by a week prior to the application deadline will be screened out and will not be reviewed.

4. Intergovernmental Review (E.O. 12372) Requirements

Executive Order 12372, as implemented through Department of Health and Human Services (DHHS) regulation at 45 CFR part 100, sets up a system for State and local review of applications for Federal financial assistance. A current listing of State Single Points of Contact (SPOCs) is included in the application kit and can be downloaded from the Office of Management and Budget (OMB) Web site at www.whitehouse.gov/omb/grants/spoc.html.

• Check the list to determine whether your State participates in this program. You do not need to do this if you are a federally recognized Indian tribal government.

• If your State participates, contact your SPOC as early as possible to alert him/her to the prospective application(s) and to receive any necessary instructions on the State's review process.

• For proposed projects serving more than one State, you are advised to contact the SPOC of each affiliated State.

• The SPOC should send any State review process recommendations to the following address within 60 days of the application deadline:

Substance Abuse and Mental Health Services Administration, Office of Program Services, Review Branch, 5600 Fishers Lane, Room 17-89, Rockville, Maryland, 20857, ATTN: SPOC—Funding Announcement No. TI-04-008.

In addition, community-based, non-governmental service providers who are not transmitting their applications through the State must submit a Public Health System Impact Statement or PHSIS (approved by OMB under control no. 0920-0428; see burden statement below) to the head(s) of the appropriate State and local health agencies in the area(s) to be affected no later than the pertinent receipt date for applications. The PHSIS is intended to keep State and local health officials informed of proposed health services grant applications submitted by community-based, non-governmental organizations within their jurisdictions. State and local governments and Indian tribal government applicants are not subject to the following Public Health System Reporting Requirements.

This PHSIS consists of the following information:

• A copy of the face page of the application (SF 424); and

• A summary of the project, no longer than one page in length, that provides: (1) A description of the population to be served, (2) a summary of the services to be provided, and (3) a description of the coordination planned with appropriate State or local health agencies.

For SAMHSA grants, the appropriate State agencies are the Single State Agencies (SSAs) for substance abuse and mental health. A listing of the SSAs can be found on SAMHSA's Web site at http://www.samhsa.gov/. If the proposed project falls within the jurisdiction of more than one State, you should notify all representative SSAs.

Applicants who are not the SSA must include a copy of a letter transmitting the PHSIS to the SSA in Appendix 4, “Letter to the SSA.” The letter must notify the State that, if it wishes to comment on the proposal, its comments should be sent not later than 60 days after the application deadline to:

Substance Abuse and Mental Health Services Administration, Office of Program Services, Review Branch, 5600 Fishers Lane, Room 17-89, Rockville, Maryland, 20857, ATTN: SSA—Funding Announcement No. TI-04-008.

In addition:

• Applicants may request that the SSA send them a copy of any State comments.

• The applicant must notify the SSA within 30 days of receipt of an award.

[Public reporting burden for the Public Health System Reporting Requirement is estimated to average 10 minutes per response, including the time for copying the face page of SF 424 and the abstract and preparing the letter for mailing. An agency may not conduct or sponsor, and a person is not required to respond to, a collection of information unless it displays a currently valid OMB control number. The OMB control number for this project is 0920-0428. Send comments regarding this burden to CDC Clearance Officer, 1600 Clifton Road, MS D-24, Atlanta, GA 30333, ATTN: PRA (0920-0428)].

5. Funding Limitations/Restrictions

Cost principles describing allowable and unallowable expenditures for Federal grantees, including SAMHSA grantees, are provided in the following documents:

• Institutions of Higher Education: OMB Circular A-21

• State and Local Governments: OMB Circular A-87

• Nonprofit Organizations: OMB Circular A-122

• Appendix E Hospitals: 45 CFR Part 74

In addition, SAMHSA Services Grant recipients must comply with the following funding restrictions:

• No more than 15% of the total grant award may be used for developing the infrastructure necessary for peer services.

• No more than 20% of the total grant award may be used for evaluation and data collection, including GPRA.

Service Grant funds must be used for purposes supported by the program and may not be used to:

• Pay for any lease beyond the project period.

• Pay for professional alcohol and/or drug treatment services. (Note: This program supports peer-to-peer recovery support services that prevent relapse and promote long-term recovery.)

• Provide services to incarcerated populations (defined as those persons in jail, prison, detention facilities, or in custody where they are not free to move about in the community), except, for a period of no longer than 6 months, to assist in the transition from the incarcerated setting to the community. For example, funds under this program could be used to support peer recovery mentoring offered to individuals awaiting discharge from prison. Such mentoring would be designed to help the incarcerated person develop a relationship with a mentor who would continue the relationship with the ex-offender in the community upon his/her release. Similarly, pre-release recovery support groups facilitated by peer leaders from the community might be offered in a correctional facility to assist incarcerated persons awaiting release as they develop plans for maintaining sobriety/abstinence in the community.

• Pay for the purchase or construction of any building or structure to house any part of the program. (Applicants may request up to $75,000 for renovations and alterations of existing facilities, if necessary and appropriate to the project.)

• Pay for programs, services, or materials that are routinely provided free of charge to the recovery community.

• Pay for incentives to induce individuals to participate in recovery support services. However, grantees may allocate funds for various types of instrumental support for participants, such as bus tokens, coupons for food, access to clothing closet, etc., and may allocate funds to pay or provide incentives for peer leaders who will provide recovery support services. In addition, a grantee may provide up to $20 or equivalent (coupons, bus tokens, gifts, child care, and vouchers) to individuals as incentives to participate in required data collection follow-up. This amount may be paid for participation in each required interview. Any incentives for instrumental supports for participants or for data collection, as well as any proposed compensation for peer leaders, must be clearly described in the project narrative and included in the budget and budget narrative.

• Implement syringe exchange programs, such as the purchase and distribution of syringes and/or needles.

• Pay for advocacy or lobbying.

6. Other Submission Requirements

6.1 Where To Send Applications

Send applications to the following address:

Substance Abuse and Mental Health Services Administration, Office of Program Services, Review Branch, 5600 Fishers Lane, Room 17-89, Rockville, Maryland, 20857.

Be sure to include RCSP III, TI 04-008 in item number 10 on the face page of the application. If you require a phone number for delivery, you may use (301) 443-4266.

6.2 How to Send Applications

Mail an original application and 2 copies (including appendices) to the mailing address provided above. The original and copies must not be bound. Do not use staples, paper clips, or fasteners. Nothing should be attached, stapled, folded, or pasted.

You must use a recognized commercial or governmental carrier. Hand carried applications will not be accepted. Faxed or e-mailed applications will not be accepted.

V. Application Review Information

1. Evaluation Criteria

Your application will be reviewed and scored according to the quality of your response to the requirements listed below for developing the Project Narrative (Sections A-E). These sections describe what you intend to do with your project.

• In developing the Project Narrative section of your application, use these instructions, which have been tailored to this program. These are to be used instead of the “Program Narrative” instructions found in the PHS 5161-1.

• The Project Narrative (Sections A-E) together may be no longer than 30 pages.

• You must use the five sections/headings listed below in developing your Project Narrative. Be sure to place the required information in the correct section, or it will not be considered. Your application will be scored according to how well you address the requirements for each section of the Project Narrative.

• Reviewers will be looking for evidence of cultural competence in each section of the Project Narrative. Points will be assigned on how well you address the cultural aspects of the evaluation criteria. SAMHSA'S guidelines for cultural competence can be found on the SAMHSA Web site at www.samhsa.gov. Click on “Grant Opportunities.”

• The Supporting Documentation you provide in Sections F-I and Appendices 1-4 will be considered by reviewers in assessing your response, along with the material in the Project Narrative.

• The number of points after each heading is the maximum number of points a review committee may assign to that section of your Project Narrative. Bullet statements in each section do not have points assigned to them. They are provided to invite the attention of applicants and reviewers to important areas within the criterion.

Section A: Statement of Need (10 points)

• Define the target populations that will receive and provide peer recovery support services and provide a rationale for selecting those target populations, as well as the geographic area to be served. (Note: Extensive demographic information is not required.) If you plan to focus on a specific segment of the recovery community, explain why this is necessary or desirable.

• Describe the nature of the problem and extent of the need for recovery support services for the target population. Documentation of need may come from quantitative and/or qualitative sources. The quantitative data could come from community assessments you or others have conducted, or from local data or trend analyses, State data (e.g., from State Needs Assessments), and/or national data (e.g., from SAMHSA's National Household Survey on Drug Abuse and Health). Qualitative sources could include focus groups and key informant interviews you or others have conducted with the targeted community, as well as anecdotal reports.

• Based on your quantitative and qualitative findings, discuss your understanding of the recovery issues facing the targeted recovery community, including family members/significant others.

• Describe how the proposed peer recovery support services will complement existing professional and peer services in your community (e.g., formal treatment and self-help programs).

• Describe any other meaningful results you expect your project to produce.

Section B: Organizational and Community Readiness and Feasibility (10 points)

• Clearly identify your organization as either a Facilitating Organization or Recovery Community Organization.

• Describe previous efforts organizing and mobilizing the targeted recovery community (by your organization and/or others), and explain why you think the community is ready to participate in providing and receiving peer-to-peer recovery support services.

• Describe the extent to which the recovery community indicates support for your proposed project.

• Describe the extent to which other categories of stakeholders indicate support for your proposed project. Identify categories of stakeholders—for example, treatment and other professional groups, civic groups, governmental organizations, faith-based groups, and others—and discuss the role you expect them to play in the project. (You should include letters of support showing stakeholder interest in the project in Appendix 1, entitled, “Letters of Commitment/Support”.)

Section C: Project Approach (35 points)

• Clearly state the purpose, goals, and objectives of your proposed project. Describe how achievement of goals will produce meaningful and relevant results (e.g., increase number, range, and availability of services; help prevent relapse; strengthen linkage between treatment and recovery; increase support for sustained recovery in your community).

• Demonstrate how the proposed services will meet your goals and objectives.

• Discuss and explain the core values that will guide the project design and implementation, and explain how each of these values will be operationalized. At a minimum, discuss each of the following as it relates to the proposed project: (a) Recovery first; (b) participatory process; (c) authentic recovery community voice; (d) leadership development, and (e) cultural diversity, including the various “cultures of recovery” and/or routes to recovery. (See Appendix D for an explanation of these values.) You may identify and discuss other values important to your targeted recovery community, but you must discuss these five.

• Describe how the services will be implemented.

—Clearly explain each recovery support service you plan to provide. (Note: Be sure to include a mix of services that builds on the strengths and needs in the targeted recovery community.

—Explain your plans for building recovery community members' skills to serve as peer leaders and service providers in the delivery of peer-to-peer recovery support services. Include a discussion of your plans for recruiting, screening, orienting, training, and supervising the peers providing recovery support services.

• Clearly state the unduplicated number of individuals you propose to serve (annually and over the entire project period) with grant funds. Applicants should propose to serve no fewer than 100 individuals per year.

• Describe how the target population will be identified, recruited, and retained.

• Describe how the proposed project will address issues of age, race, ethnicity, culture, language, sexual orientation, disability, literacy, gender, and path to recovery in the target population.

• Describe how members of the recovery community helped prepare the application, and how they will help plan, implement, and evaluate the project.

• Discuss how you plan to develop effective partnerships with professional treatment organizations and self-help groups, so as to minimize duplication of services and perceived threats of encroachment on established “territory.”

• Describe the potential barriers to successful conduct of the proposed project and how you will overcome them.

Section D: Staff, Management, and Relevant Experience (30 points)

• Provide a time line for Year I of the project (chart or graph) showing key activities, milestones, and responsible staff. [Note: The timeline should be part of the Project Narrative. It should not be placed in an appendix.]

• Show that the necessary groundwork (e.g., planning, consensus development, memoranda of agreement, identification of potential facilities) has been completed or is near completion so that the project can be implemented and service delivery can begin as soon as possible, and no later than 6 months after grant award. If applicable, identify any cash or in-kind contribution that you or your partnering organizations will make to the project.

• Discuss the capability and experience of the applicant organization and other participating organizations with similar projects and populations, including experience organizing and mobilizing in the recovery community, and providing peer services, as well as culturally appropriate/competent services.

• Provide a list of staff who will participate in the project, showing the role of each and their level of effort and qualifications. Include the Project Director and other key personnel, such as Volunteer/Peer Coordinator, and Evaluator.

• Describe the resources available for the proposed project (e.g., facilities, equipment), and provide evidence that services will be provided in a location that is adequate, accessible, compliant with the Americans with Disabilities Act (ADA), and amenable to the target population.

Section E: Evaluation and Data (15 points)

• Document your ability to collect, manage, and report on the required GPRA performance measures for SAMHSA Services Grants. (Note: It is not necessary to include any outcome measures other than those required for GPRA in your evaluation design. SAMHSA/CSAT will provide the necessary protocols and forms for collection and reporting of GPRA data, so you do not need to include data collection forms for GPRA in your application.

• If you choose to include an outcome evaluation other than GPRA, you must specify and justify the outcome measures.

• If you choose to include an outcome evaluation other than GPRA, describe your plans for data collection, management, analysis, interpretation and reporting. If you are including outcome measures other than those required for GPRA, you must include your valid and reliable data collection instruments/interview protocols in Appendix 2.

• Describe the process evaluation and explain how it will reflect the experience and insights of your project. Include in Appendix 2 any forms or protocols you plan to use for your process evaluation.

Note: Although the budget for the proposed project is not a review criterion, the Review Group will be asked to comment on the appropriateness of the budget after the merits of the application have been considered.

2. Review and Selection Process

SAMHSA applications are peer-reviewed according to the review criteria listed above. For those programs where the individual award is over $100,000, applications must also be reviewed by the appropriate National Advisory Council.

Decisions to fund a grant are based on:

• The strengths and weaknesses of the application as identified by the peer review committee and, when applicable, approved by the appropriate National Advisory Council;

• Availability of funds; and

• Equitable allocation of grants in terms of geography (including urban, rural and remote settings) and balance among target populations and program size.

• After applying the aforementioned criteria, the following method for breaking ties: When funds are not available to fund all applications with identical scores, SAMHSA will make award decisions based on the application(s) that received the greatest number of points by peer reviewers on the evaluation criterion in Section V-1 with the highest number of possible points (Section C: Project Approach—35 points). Should a tie still exist, the evaluation criterion with the next highest possible point value will be used, continuing sequentially to the evaluation criterion with the lowest possible point value, should that be necessary to break all ties. If an evaluation criterion to be used for this purpose has the same number of possible points as another evaluation criterion, the criterion listed first in Section V-1 will be used first.

VI. Award Administration Information

1. Award Notices

After your application has been reviewed, you will receive a letter from SAMHSA through postal mail that describes the general results of the review, including the score that your application received.

If you are approved for funding, you will receive an additional notice, the Notice of Grant Award, signed by SAMHSA's Grants Management Officer. The Notice of Grant Award is the sole obligating document that allows the grantee to receive Federal funding for work on the grant project. It is sent by postal mail and is addressed to the contact person listed on the face page of the application.

If you are not funded, you can re-apply if there is another receipt date for the program.

2. Administrative and National Policy Requirements

• You must comply with all terms and conditions of the grant award. SAMHSA's standard terms and conditions are available on the SAMHSA Web site http://www.samhsa.gov/grants/2004/useful_info.asp.

• Depending on the nature of the specific funding opportunity and/or the proposed project as identified in the RFA or during review, additional terms and conditions may be negotiated with the grantee prior to grant award. These may include, for example:

—Actions required to be in compliance with human subjects requirements;

—Requirements relating to additional data collection and reporting; or

—Requirements to address problems identified in review of the application.

• You will be held accountable for the information provided in the application relating to performance targets. SAMHSA program officials will consider your progress in meeting goals and objectives, as well as your failures and strategies for overcoming them, when making an annual recommendation to continue the grant and the amount of any continuation award. Failure to meet stated goals and objectives may result in suspension or termination of the grant award, or in reduction or withholding of continuation awards.

• In an effort to improve access to funding opportunities for applicants, SAMHSA is participating in the U.S. Department of Health and Human Services “Survey on Ensuring Equal Opportunity for Applicants.” This survey is included in the application kit for SAMHSA grants. Applicants are encouraged to complete the survey and return it, using the instructions provided on the survey form.

3. Reporting Requirements

3.1 Progress and Financial Reports

• Grantees must provide quarterly progress and final reports. The final report must summarize information from the quarterly reports, describe the accomplishments of the project, and describe next steps for implementing plans developed during the grant period.

• Grantees must provide annual and final financial status reports. Because SAMHSA is extremely interested in ensuring that recovery services can be sustained, your financial reports should explain plans to ensure the sustainability of efforts initiated under this grant. Initial plans for sustainability should be described in year 01. In each subsequent year, you should describe the status of your project, as well as the successes achieved and obstacles encountered in that year.

• SAMHSA will provide guidelines and requirements for these reports to grantees at the time of award and at the initial grantee orientation meeting after award. SAMHSA staff will use the information contained in the reports to determine the grantee's progress toward meeting its goals.

3.2 Government Performance and Results Act (GPRA)

The Government Performance and Results Act (GPRA) mandates accountability and performance-based management by Federal agencies. To meet the GPRA requirements, SAMHSA must collect performance data (.e.g., “GPRA data”) from grantees. These requirements are specified in Section I-2.8, Data and Performance Measurement, of this RFA.

3.3 Publications

If you are funded under this program, you are required to notify the Government Project Officer (GPO) and SAMHSA's Publications Clearance Officer (301-443-8596) of any materials based on the SAMHSA-funded grant project that are accepted for publication.

In addition, SAMHSA requests that grantees:

• Provide the GPO and SAMHSA Publications Clearance Officer with advance copies of publications.

• Include acknowledgment of the SAMHSA grant program as the source of funding for the project.

• Include a disclaimer stating that the views and opinions contained in the publication do not necessarily reflect those of SAMHSA or the U.S. Department of Health and Human Services, and should not be construed as such.

SAMHSA reserves the right to issue a press release about any publication deemed by SAMHSA to contain information of program or policy significance to the addiction treatment and recovery, substance abuse prevention, and/or mental health services community.

VII. Agency Contacts

For questions about program issues, contact:

Catherine D. Nugent, M.S., Recovery Community Services Program, CSAT/SAMHSA, Rockwall II, Room 7-213,5600 Fishers Lane, Rockville, MD 20857, (301) 443-2662, cnugent@samhsa.gov.

For questions on grants management issues, contact:

Kathleen Sample, SAMHSA, Division of Grants Management, 5600 Fishers Lane, Rockwall II 6th Floor, Rockville, MD 20857, (301) 443-9667, ksample@samhsa.gov.

Appendix A: References Cited

Cobb, S. (1976). Social support as a moderator of life stress. Psychosomatic Medicine, 38, 5: 300-314.

Salser, M. (No date). Best practice guidelines for consumer-delivered services. Unpublished paper, developed for Behavioral Health Recovery Management Project, An Initiative of Fayette Companies, Peoria, IL; Chestnut Health Systems, Bloomington, IL; and the University of Chicago Center for Psychiatric Rehabilitation. Available at: http://bhrm.org/guidelines/mhguidelines.htm.

¹ This list is illustrative, not exhaustive.

Appendix B: Peer-to-Peer Recovery Support Services Examples ¹

Peer-Facilitated Recovery Support Meetings/Groups

—General support groups

—Specialized support groups (e.g., homelessness, HIV, Hepatitis C, dual diagnosis, PTSD, culturally-specific)

—Family support groups

—Faith-based support groups

—Talking circles

—Recovery workshops

—Learning circles or study groups (recovery topics)

—Recovery drop-in center

Recovery Coaching or Mentoring

—Adult to adult

—Youth to youth (with adult supervision)

—Community member in recovery to incarcerated person awaiting release

—Family member to family member

Peer Case Advocacy, Information, and Referral

—Information about and assistance obtaining public assistance, SSI/SSD and other benefits

—Assistance with finding housing, advocacy with public housing placements

—Crisis assistance and peer interventions

—Information about restoration of citizenship for ex-offenders

—Legal clinics or referral to legal services

Life Skills

—Classes on money management, savings, and budgeting

—Peer counseling and/or peer support for issues of daily living (money, meals, medication, living skills)

—Classes in nutrition, meal planning, food buying, cooking

—Workshops on renting an apartment, buying a house, setting up utilities, etc.

—Workshops on parenting in recovery

—Workshops for families in recovery

—Parenting groups

—Social skills workshops and groups

Health and Wellness

—Classes in HIV and STD prevention

—HIV management workshops

—Psychoeducational workshops or discussion groups (e.g., understanding depression, body image, maintaining intimate relationships)

—Wellness workshop series (e.g., stress management, meditation, yoga, acupuncture, massage)

—Health workshop series

—Sexuality workshop series

—Addiction workshop series

—Relapse prevention workshops

—Guest speaker/lecturer series

—Smoking cessation workshops

—Classes in cooking and nutrition

—Spiritual health/spirituality

Gender-Specific

—Men's and women's support groups

—Pre-employment assessment and services for men and women entering/returning to the workforce

—Reproductive health workshops

—Parenting skills workshops

Education and Career Planning

—English as a Second Language classes

—GED classes

—Reading and study skills program

—Information regarding college and career choices for adults

—Job skills and career aptitude workshops

—Vocational training or linkages to vocational rehabilitation

—Work readiness groups

—Assistance with scholarships and financial aid

—Assistance with college applications

—Preparation for SAT and other college entrance tests

—Peer counseling/peer support for job readiness, job training, interviewing skills, appropriate attire, wardrobe maintenance and other employment behaviors and skills

—Job training, job coaching

—Resume writing workshops

—Computer skills training

Leadership Skills Development

—Peer-leadership development workshops

—Peer support group training and facilitation (how to conduct meetings)

—Peer helping skills training and development (process skills)

—Peer volunteer content training: public health issues (HIV, TB, etc.), community resources, addiction treatment and recovery issues

—Communication skills

—Conflict resolution skills

—Citizenship classes

—Community service programs

—Diversity training

—Learning circles

—Consciousness—raising groups

Physical Education and Fitness

—Strength training

—Aerobics

—Yoga

—Dance classes

Cultural Activities

—Art classes

—Photography

—Music classes

—Art exhibits

—Performances

—Chorus

—Theater group or improvisational theater

—Writing and journal workshops

—Videography workshops

Alcohol-and Drug-Free Social/Recreational Activities

—Movie nights

—Game nights

—Dances

—Potluck suppers and picnics

—Talent shows

—Holiday parties

—Pool and ping pong tournaments

—Field trips

—Basketball and softball leagues

—Snack bar/food service

—Sober bike runs

Other Services

—Library, resource center, clearinghouse

—Information and referral

—Hotline/Warmline

—Transportation assistance service

—Shower facilities for homeless

—Food bank

—Respite programs

—Copy shop services

—Thrift store

Appendix C: Checklist for Formatting Requirements and Screenout Criteria for SAMHSA Grant Applications

SAMHSA's goal is to review all applications submitted for grant funding. However, this goal must be balanced against SAMHSA's obligation to ensure equitable treatment of applications. For this reason, SAMHSA has established certain formatting requirements for its applications. If you do not adhere to these requirements, your application will be screened out and returned to you without review. In addition to these formatting requirements, programmatic requirements (e.g., relating to eligibility) may be stated in the specific funding announcement. Please check the entire funding announcement before preparing your application.

• Use the PHS 5161-1 application.

• Applications must be received by the application deadline. Applications received after this date must have a proof of mailing date from the carrier dated at least 1 week prior to the due date. Private metered postmarks are not acceptable as proof of timely mailing. Applications not received by the application deadline or not postmarked at least 1 week prior to the application deadline will not be reviewed.

• Information provided must be sufficient for review.

• Text must be legible.

— Type size in the Project Narrative cannot exceed an average of 15 characters per inch, as measured on the physical page. (Type size in charts, tables, graphs, and footnotes will not be considered in determining compliance.)

— Text in the Project Narrative cannot exceed 6 lines per vertical inch.

• Paper must be white paper and 8.5 inches by 11.0 inches in size.

• To ensure equity among applications, the amount of space allowed for the Project Narrative cannot be exceeded.

— Applications would meet this requirement by using all margins (left, right, top, bottom) of at least one inch each, and adhering to the page limit for the Project Narrative stated in the specific funding announcement.

— Should an application not conform to these margin or page limits, SAMHSA will use the following method to determine compliance: The total area of the Project Narrative (excluding margins, but including charts, tables, graphs and footnotes) cannot exceed 58.5 square inches multiplied by the total number of allowed pages. This number represents the full page less margins, multiplied by the total number of allowed pages.

— Space will be measured on the physical page. Space left blank within the Project Narrative (excluding margins) is considered part of the Project Narrative, in determining compliance.

• The page limit for Appendices stated in the specific funding announcement cannot be exceeded.

To facilitate review of your application, follow these additional guidelines. Failure to adhere to the following guidelines will not, in itself, result in your application being screened out and returned without review. However, the information provided in your application must be sufficient for review. Following these guidelines will help ensure your application is complete, and will help reviewers to consider your application.

• The 10 application components required for SAMHSA applications should be included. These are:

— Face Page (Standard Form 424, which is in PHS 5161-1)

— Abstract

— Table of Contents

— Budget Form (Standard Form 424A, which is in PHS 5161-1)

— Project Narrative and Supporting Documentation

— Appendices

— Assurances (Standard Form 424B, which is in PHS 5161-1)

— Certifications (a form within PHS 5161-1)

— Disclosure of Lobbying Activities (Standard Form LLL, which is in PHS 5161-1)

— Checklist (a form in PHS 5161-1)

• Applications should comply with the following requirements:

— Provisions relating to confidentiality, participant protection and the protection of human subjects specified in Section IV-2.4 of the specific funding announcement.

— Budgetary limitations as specified in Sections I, II, and IV-5 of the specific funding announcement.

— Documentation of nonprofit status as required in the PHS 5161-1.

• Pages should be typed single-spaced with one column per page.

• Pages should not have printing on both sides.

• Please use black ink and number pages consecutively from beginning to end so that information can be located easily during review of the application. The cover page should be page 1, the abstract page should be page 2, and the table of contents page should be page 3. Appendices should be labeled and separated from the Project Narrative and budget section, and the pages should be numbered to continue the sequence.

• Send the original application and two copies to the mailing address in the funding announcement. Please do not use staples, paper clips, and fasteners. Nothing should be attached, stapled, folded, or pasted. Do not use heavy or lightweight paper or any material that cannot be copied using automatic copying machines. Odd-sized and oversized attachments such as posters will not be copied or sent to reviewers. Do not include videotapes, audiotapes, or CD-ROMs.

Appendix D: Core Values for RCSP Peer-to-Peer Recovery Support Services

RCSP III builds on the work of earlier SAMHSA/CSAT initiatives with the recovery community, as well as efforts in the mental health and HIV/AIDS consumer communities, that have focused on the importance and value of peer-to-peer service. The program is built on the recognition that individuals in recovery, their families, and their community allies are critical resources that can effectively extend, enhance, and improve formal treatment. RCSP III is designed to achieve its goals by focusing on recovery community resources and motivation that already exist within most communities; employing a peer-driven, strength-based, and wellness-oriented approach that is grounded in the “culture(s) of recovery”; and utilizing existing community resources.

Because peer services emphasize strength, wellness, community-based delivery, and provision by peers rather than experts, these services can be viewed as promoting self-efficacy, community connectedness, and quality of life, all important factors in sustained recovery.

Previous efforts among CSAT's RCSP grantees have pointed to the importance of five core values in recovery community organizing, including organizing to provide peer services. These values are:

• Keeping recovery first—placing recovery at the center of the effort, grounding peer-to-peer services in the strengths and innate resiliency that recovery represents;

• Participatory process—involving the recovery community in all aspects of project design, implementation, and evaluation;

• Authenticity—ensuring that the program has a clearly defined method for enabling the targeted recovery community to identify its strengths, interests, and needs, and to design and deliver peer-to-peer services program around the self-identified strengths and needs;

• Leadership development—building leadership among members of the recovery community so that they are able to guide and direct the service program and deliver support services to their peers; and

• Cultural diversity and inclusion—developing a recovery community peer support services program that is inclusive of various groups and that honors differing routes to recovery, including medication-assisted recovery.

Appendix E: Sample Consent Form for Participation in Peer-to-Peer Recovery Support Services

I, ____________, (participant's name—printed) consent to participate in peer recovery support services offered by [grantee: insert name of grantee organization] (hereafter referred to as “the organization.”

I understand that these are peer-to-peer services, offered to support my recovery, help me avoid relapse, and promote my overall functioning and well-being. I understand that these are not professional services by a treatment provider, mental health counselor, or other professional, and that I may seek professional services elsewhere should I choose to do so.

The specific service I will be receiving is:

[grantee: insert name of recovery support service]

I expect to be receiving this service from ________ to ________.

I understand that my participation in this service is voluntary, and I have the right to terminate my participation in the service at any time without negative consequences.

I understand that I may be subject to certain risks as a consequence of my participation in this service, including:

[grantee: list potential risks for the recovery support service—see Appendix F for some examples]

I also understand that the organization is taking the following steps to help protect me from those risks:

[grantee: list protections for risks identified above—see Appendix F for some examples]

If I have any questions about this peer-to-peer recovery support services, I understand that I may contact:

[grantee: insert name of RCSP project director with phone number and e-mail address]

Signed:

Date:

(Print name of participant or, if applicable, legal guardian)

(Signature)

Witnessed:

Date:

(Print name of program staff)

(Signature)

This consent is effective as of the date of signing. It may be revoked in writing at any time. This consent will expire 15 months after the date of signing if not revoked before then.

Appendix F: Analysis of Examples of Risks and Protections for Peer Recovery Support Services

Recovery Community Services Program—Protections for Participants in Peer Services
Sample Framework for Analysis: SAMHSA guidelines | Sample Framework for Analysis: Examples of risks | Sample Framework for Analysis: Examples of protections
Client & Staff Protection from Risk | Participant's issues/problems beyond expertise of peer provider. Potential for mental anguish and/or reoccurence of a mental condition (e.g., PTSD). Potential for relapse and/or destabilization. Public disclosure may expose prograrm participants/volunteers to stigma & discrimination. | Provide verbal and written notification of potential risks associated with participation. Obtain informed consent forms that specify potential risks. Maintain referral network and be capable of providing referrals to professional service organizations for help when necessary. Establish and continually promote norms that support self-care. Provide ongoing training, supervision, and support for peer leaders who provide recovery support services. Use mentors or coaches. Provide ongoing written communication about voluntary participation. Provide opportunities to participate without self-disclosure. Maintain anonymity in publications and public arenas.

Appendix G: Potential Participant Protection Challenges in Peer Services and Strategies to Address

Fair Selection of Participants | Exclusion from program and/or services based on physical ability, gender, sexuality, age, race/ethnicity. | Describe the diversity of potential participants from program target community.
| Unfair “targeting” of population for participation based on physical ability, gender, sexuality, age, race/ethnicity. | Develop program leadership that reflects diversity of target community. Provide diversity and cultural competency training for staff, volunteers and participants. Increase cultural competency through hiring and volunteer recruitment procedures. Utilize peers in outreach efforts. Continue to assess participation barriers and develop strategies to address.
Absence of Coercion | Coerced participation. Peer pressure to participate. Access to program “benefits” primarily based on level of participation. Monetary compensation for participation. Mandatory participation attached to continued access to program or agency services. | Provide on-going written and verbal communication about voluntary nature of participation. Provide range of opportunities for participation from high to low visibility (i.e. some involving no disclosure of recovery status). Obtain written consent to participate. Establish feedback & grievance procedures that can be utilized by program participants to communicate perceived problem areas. Provide appropriate monetary and non-monetary incentives in fair and equitable manner.
Methods of Data Collection | Coerced participation in data collection effort. Participant mandated to provide data. Participant unable to give informed consent. Properly maintaining confidential information (e.g., information not properly stored in locked file cabinet, or electronically stored information not protected by user name, password, firewall, etc.). Unauthorized access by program staff/volunteers to confidential information (i.e. names, contact information, etc.). Staff and/or volunteers not adhering to data collection & instrument protocol. | Maintain confidential information separately, and in locked cabinet. Train all project staff and volunteers in project's policy for maintaining confidentiality of participants' information. Consistently safeguard confidentiality of participant information. Utilize user names, passwords, etc. when confidential information is stored electronically. Ensure that staff/volunteers adhere to data collection policies and procedures (including collecting only that information that is absolutely necessary) Establish a feedback and grievance procedure for program participants to report problem areas.
Privacy and Confidentiality | Same as 1 thru 4 above. | Same as 1 thru 4 above.
Consent Procedures | Lack of knowledge of consent procedure. Low reading & comprehension skills. Complicated language & terminology in consent form. Peer pressure to consent to participate. | Emphasize voluntary participation in all activities, including data gathering, and provide opportunities in activities that do not require disclosure. Provide explanation of consent forms at events. Read consent form to participants to clarify content. Translate consent forms in the appropriate language (use only CSAT-approved translation). Provide translation at project events when informing participants of consent procedures.
Additional Consideration: Peer vs. Professional Support Services | Distinguishing between Peer-to-Peer and Professional Services. Addressing specific issues when program participants that are professionals and peers. Addressing “turf” issues with other substance abuse treatment service agencies. | Implement a “Do No Harm” approach. Provide training for project staff/volunteers on nature and boundaries of peer services. Have an ethics policy and plan, and train project staff/volunteers in ethics for peer services. Provide training for project staff on referral to other community (peer and professional) services. Develop and communicate guidelines for individuals who are both peers and professionals. Reach out to professional service organizations to inform them of peer services and opportunities for collaboration.

Appendix H: Glossary

Cost-Sharing or Matching: Cost-sharing refers to the value of allowable non-Federal contributions toward the allowable costs of a Federal grant project or program. Such contributions may be cash or in-kind contributions. For SAMHSA grants, cost-sharing or matching is not required, and applications will not be screened out on the basis of cost-sharing. However, applicants often include cash or in-kind contributions in their proposals as evidence of commitment to the proposed project. This is allowed, and this information may be considered by reviewers in evaluating the quality of the application.

Grant: A grant is the funding mechanism used by the Federal Government when the principal purpose of the transaction is the transfer of money, property, services, or anything of value to accomplish a public purpose of support or stimulation authorized by Federal statute. The primary beneficiary under a grant or cooperative agreement is the public, as opposed to the Federal Government.

In-Kind Contribution: In-kind contributions toward a grant project are non-cash contributions (e.g., facilities, space, services) that are derived from non-Federal sources, such as State or sub-State non-Federal revenues, foundation grants, or contributions from other non-Federal public or private entities.

Peer: An individual who shares the experience of addiction and recovery, either directly or as a family member or significant other.

Peer-to-Peer Recovery Support Services: Recovery support services designed and delivered by peers to assist others in or seeking recovery, and/or their family members and significant others, to initiate and/or sustain recovery from alcohol and drug use disorders and closely related consequences.

Recovery Support Services: Supportive services designed to assist people in or seeking recovery and their family members and significant others initiate and/or sustain recovery by providing supports in four major areas: emotional, informational, instrumental, and companion support. Recovery support services are based, philosophically, on the notion that recovery is a larger construct than sobriety or abstinence and embraces a full reengagement with the community based on resilience, health, and hope. Therefore, recovery support services are designed to focus less on the pathology of substance use disorders and more on maximizing opportunities to create lifetime of recovery and wellness for self, family, and community.

Recovery Community: Persons having a history of alcohol and drug problems who are in or seeking recovery or recovered, including those currently in treatment, as well as family members, significant others, and other supporters and allies.

Stakeholder: A stakeholder is an individual, organization, constituent group, or other entity that has an interest in and will be affected by a proposed grant project.

Dated: March 17, 2004.
Margaret M. Gilliam,
Acting Director, Office of Policy, Planning and Budget, Substance Abuse and Mental Health Services Administration.

[FR Doc. 04-6378 Filed 3-22-04; 8:45 am]

BILLING CODE 4162-20-P